FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843), and interested persons may express their views in writing on the standards enumerated in section 4. Unless otherwise noted, nonbanking activities will be conducted throughout the United States.

Comments regarding each of these applications must be received at the Reserve Bank indicated or the offices of the Board of Governors, Ann E. Misback, Secretary of the Board, 20th and Constitution Avenue NW, Washington DC 20551-0001, not later than November 12, 2019.

A. Federal Reserve Bank of Kansas City (Dennis Denney, Assistant Vice President) 1 Memorial Drive, Kansas City, Missouri 64198-0001:

1. Community Bancshares of America, Inc., Kansas City, Missouri; to become a bank holding company by acquiring Northeast Kansas Bancshares, Inc., and thereby indirectly acquire Kendall State Bank, both of Valley Falls, Kansas. In connection with this application, Community Bancshares of America, Inc., has applied to engage in general insurance activities through the acquisition of Northeast Kansas Bancshares, Inc., pursuant to section 4 of the Bank Holding Company Act and 12 CFR 225.28(b)(11)(iii)(A).

B. Federal Reserve Bank of Minneapolis (Mark A. Rauzi, Vice President), 90 Hennepin Avenue, Minneapolis, Minnesota 55480-0291:

1. Eagle Bancorp Montana, Inc., Helena, Montana; to merge with Western Holding Company of Wolf Point and thereby indirectly acquire Western Bank of Wolf Point, both of Wolf Point, Montana. In connection with this application, Eagle Bancorp Montana, Inc. has applied to acquire Western Financial Services, Wolf Point, Montana, and thereby engage in the activity of facilitating deferred payment contracts for certain agricultural products pursuant to section 4 of the Bank Holding Company Act and 12 CFR 225.28(b)(8)(ii)(B)(3).

Board of Governors of the Federal Reserve System, October 8, 2019.
Yao-Chin Chao,
Assistant Secretary of the Board.

[FR Doc. 2019-22322 Filed 10-10-19; 8:45 am]

BILLING CODE P